DEPARTMENT OF JUSTICE

Office of the Assistant Attorney General for Civil Rights; Certification of the Maryland Accessibility Code Under the Americans With Disabilities Act

AGENCY: Department of Justice.

ACTION: Notice of hearing.

SUMMARY: The Department of Justice will hold an informal hearing in Washington, DC on the proposed certification that the Maryland Accessibility Code, under .05.02.02 of the Code of Maryland Regulations (COMAR), as adopted pursuant to Article 83B, section 6-102 of the Annotated Code of Maryland (together, the Maryland law), meets or exceeds the new construction and alterations requirements of title III of the Americans With Disabilities Act (ADA).

DATES: The hearing in Washington, DC is scheduled for Wednesday, October 22, 2003, at 2 p.m. Eastern Time.

ADDRESSES: The hearing will be held at: Disability Rights Section, 1425 New York Avenue, NW, Suite 4039, Washington, DC.

FOR FURTHER INFORMATION CONTACT: John L. Wodatch, Chief, Disability Rights Section, Civil Rights Division, U.S. Department of Justice, 950 Pennsylvania Avenue, NW, 1425 NYA Building, Washington, DC 20530. Telephone number (800) 514-0301 (Voice) or (800) 514-0383 (TTY).

Copies of this notice are available in formats accessible to individuals with vision impairments and may be obtained by calling (800) 514-0301 (Voice) or (800) 514-0383 (TTY).

SUPPLEMENTARY INFORMATION: Background: Elsewhere in this issue of the Federal Register, the Department of Justice (Department) is publishing a notice in the Federal Register announcing that it had preliminarily determined that the Maryland Accessibility Code, under .05.02.02 of the Code of Maryland Regulations (COMAR), as adopted pursuant to Article 83B, section 6-102 of the Annotated Code of Maryland (together, the Maryland law), meets or exceeds the new construction and alterations requirements of title III of the ADA. The Department noted that it intended to issue final certification of the Maryland law and requested written comments on the preliminary determination and the proposed final certification. The Department also noted that it intended to hold an informal hearing in Ellicott City, Maryland, during the 60-day comment period on the preliminary determination.

Procedure: In addition to the informal hearing in Ellicott City, Maryland, the Department will hold an informal hearing in Washington, DC, after the close of the 60-day comment period to provide an opportunity for interested persons, including individuals with disabilities, to express their views with respect to the issuance of a final determination of equivalency of the Maryland Law. Interested parties who wish to testify at the hearing should contact Linda Garrett at (202) 353-0423 TTY, or by e-mail at Linda.Garrett@usdoj.gov.

The meeting site will be accessible to individuals with disabilities. Individuals who require sign language interpreters or other auxiliary aids should contact Linda Garrett at (202) 353-0423 TTY, or by e-mail at Linda.Garrett@usdoj.gov. A notice of at least four days before the hearing date would be greatly appreciated if individuals require sign language interpreters or other auxiliary aids.

Dated: August 8, 2003.
J. Michael Wiggins,
Acting Assistant Attorney General for Civil Rights.

[FR Doc. 03-20796 Filed 8-14-03; 8:45 am]

BILLING CODE 4410-13-M